DEPARTMENT OF HEALTH AND HUMAN SERVICES

Centers for Medicare & Medicaid Services

42 CFR Parts 409, 410, 412, 413, 414, 424, 485, 489, and 505

[CMS-1488-CN]

RIN 0938-AO12

Medicare Program; Changes to the Hospital Inpatient Prospective Payment Systems and Fiscal Year 2007 Rates; Correction

AGENCY: Centers for Medicare & Medicaid Services (CMS), HHS.

ACTION: Correction of final rule.

SUMMARY: This document corrects technical errors that appeared in the final rule published in the Federal Register on August 18, 2006 entitled “Medicare Program; Hospital Inpatient Prospective Payment Systems and Fiscal Year 2007 Rates.”

DATES: Effective Date: These corrections are effective on October 1, 2006.

FOR FURTHER INFORMATION CONTACT: Marc Hartstein, (410) 786-4548.

SUPPLEMENTARY INFORMATION:

I. Background

In FR Doc. 06-6692 of August 18, 2006 (71 FR 47870), the final rule entitled “Changes to the Hospital Inpatient Prospective Payment Systems and Fiscal Year 2007 Rates” (hereinafter referred to as the FY 2007 IPPS final rule) there were several minor typographical and technical errors that we are identifying and correcting in section III. of this notice. The provisions in this correction notice are effective as if they had been included in the published FY 2007 IPPS final rule. Accordingly, the corrections are effective October 1, 2006.

II. Summary of the Corrections to the FY 2007 IPPS Final Rule

On page 47944, in our preamble discussion regarding Carotid Artery Stents, we erroneously stated that we were creating a new DRG 583, when, in fact, we were creating a new DRG 577. Therefore, in section III. A. of this notice, we are correcting that error. This technical correction merely corrects the description of the new DRG in the preamble text and does not affect the GROUPER or the relative weight for the new DRG.

On page 48137, we made several errors in the first amendatory statement for § 412.25. First, we misstated that we were amending the introductory text of § 412.25(e) when instead we were amending § 412.25(e)(1). Second, we inadvertently misquoted a portion of § 412.25(e)(1). Specifically, we stated that we were removing the phrase “paragraph (e)(2) and (e)(4)” in the existing regulations. However, the existing regulation states “paragraphs (e)(2) through (e)(4)”. Third, we made a typographical error in describing the phrase that was replacing the cross-reference described above. Specifically, we stated that “paragraph (e)(2) and (e)(5)” was replacing “paragraph (e)(2) and (e)(4).” (We note that our final regulations make paragraphs (e)(2) through (e)(5), not just paragraphs (e)(2) and (e)(5), applicable to satellite facilities.) Therefore, in section III. B. of this notice, we are correcting the aforementioned errors by revising the first amendatory statement of § 412.25 to indicate that in paragraph (e)(1) we are removing the cross-reference to “paragraphs (e)(2) through (e)(4)” and adding the cross-reference “paragraphs (e)(2) through (e)(5)” in its place.

On pages 48191, 48201, and 48202, in Table 5—List of Diagnosis-Related Groups (DRGS), Relative Weighting Factors, and Geometric and Arithmetic Mean Length of Stay (LOS), we inadvertently listed the incorrect DRG title for several DRGs and the incorrect major diagnosis category (MDC) for DRG 566 and DRG 572. Therefore, we are correcting these errors in section III. C. of this notice.

III. Correction of Errors

In FR Doc. 06-6692 of August 18, 2006 (71 FR 47870), make the following corrections:

A. Corrections to Errors in the Preamble

On page 47944, first column, second full paragraph, lines 1 and 5, the figure “583” is corrected to read “577”.

B. Corrections to Errors in the Regulations Text

§ 412.25 [Corrected]

On page 48137, first column, lines 10 through 14, in the first amendatory statement for § 412.25, the sentence “In paragraph (e) introductory text, remove the cross-reference ‘paragraph (e)(2) and (e)(4)' and add the cross-reference ‘paragraph (e)(2) and (e)(5)' in its place.” is corrected to read, “In paragraph (e)(1), remove the cross-reference ‘paragraphs (e)(2) through (e)(4)' and add the cross-reference ‘paragraphs (e)(2) through (e)(5)' in its place.”

C. Corrections to Errors in the Addendum

Note: The addendum does not appear in the Code of Federal Regulations.

1. On pages 48191, 48201, and 48202 in Table 5—List of Diagnosis-Related Groups (DRGS), Relative Weighting Factors, and Geometric and Arithmetic Mean Length of Stay (LOS) the following DRG titles (column 6) are corrected to read as follows:

DRG | DRG title
DRG 303 | Kidney and Ureter Procedures for Neoplasm.
DRG 304 | Kidney and Ureter Procedures for Non-Neoplasm With CC.
DRG 305 | Kidney and Ureter Procedures for Non-Neoplasm Without CC.
DRG 543 | Craniotomy With Major Device Implant or Acute Complex CNS Principal Diagnosis.
DRG 568 | Stomach, Esophageal & Duodenal Proc Age >17 W CC W/O Major GI DX.

2. On page 48202, in Table 5—List of Diagnosis-Related Groups (DRGS), Relative Weighting Factors, and Geometric and Arithmetic Mean Length of Stay (LOS),—

a. Row 9, DRG 566, the MDC (column 4) “06” is corrected to read “04”.

b. Row 15, DRG 572, the MDC (column 4) “08” is corrected to read “06”.

IV. Waiver of Proposed Rulemaking and Delay in Effective Date

We ordinarily publish a notice of proposed rulemaking in the Federal Register to provide a period for public comment before the provisions of a rule take effect in accordance with section 553(b) of the Administrative Procedure Act (APA) (5 U.S.C. 553(b)). However, we can waive this notice and comment procedure if the Secretary finds, for good cause, that the notice and comment process is impracticable, unnecessary, or contrary to the public interest, and incorporates a statement of the finding and the reasons therefore in the notice.

Section 553(d) of the APA ordinarily requires a 30-day delay in effective date of final rules after the date of their publication in the Federal Register. This 30-day delay in effective date can be waived, however, if an agency finds for good cause that the delay is impracticable, unnecessary, or contrary to the public interest, and the agency incorporates a statement of the findings and its reasons in the rule issued.

Therefore, we are waiving proposed rulemaking and the 30-day delayed effective date for the technical corrections in this notice. This notice merely corrects typographical and technical errors in the preamble, regulations text, and addendum of the FY 2007 IPPS final rule and does not make substantive changes to the policies or payment methodologies that were adopted in the final rule. As a result, this notice is intended to ensure that the FY 2007 IPPS final rule accurately reflects the policies adopted in the final rule. Therefore, we find that undertaking further notice and comment procedures to incorporate these corrections into the final rule or delaying the effective date of these changes is unnecessary and contrary to the public interest.

(Catalog of Federal Domestic Assistance Program No. 93.773, Medicare—Hospital Insurance; and Program No. 93.774, Medicare—Supplementary Medical Insurance Program)

Dated: September 28, 2006.
Ann C. Agnew,
Executive Secretary to the Department.

[FR Doc. 06-8429 Filed 9-29-06; 8:45 am]

BILLING CODE 4120-01-P